DEPARTMENT OF THE INTERIOR

National Park Service

[NPS-NERO-ACAD-23498; PPNEACADSO, PPMPSPDIZ.YM0000]

Acadia National Park Advisory Commission; Postponement of Meeting

AGENCY: National Park Service, Interior.

ACTION: Notice.

SUMMARY: The June 2017 Acadia National Park Advisory Commission meeting has been postponed.

DATES: The meeting was scheduled for June 5, 2017, in Bar Harbor, Maine, and will be rescheduled at a later date. We will publish a future notice with a new meeting date and location.

FOR FURTHER INFORMATION CONTACT: Further information concerning these meetings may be obtained from R. Michael Madell, Deputy Superintendent, Acadia National Park, P.O. Box 177, Bar Harbor, Maine 04609, telephone (207) 288-8701 or via email michael_madell@nps.gov.

SUPPLEMENTARY INFORMATION: The 16-member Commission consults with the Secretary of the Interior on matters relating to the management and development of Acadia National Park including, but not limited to, the acquisition of lands and interests in lands (including conservation easements on islands) and termination of rights of use and occupancy.

Additional information is available in the meeting notice published on December 9, 2016 (81 FR 89148).

Authority: 16 U.S.C. 341 note; 5 U.S.C. Appendix 1-16.

Alma Ripps,
Chief, Office of Policy.

[FR Doc. 2017-16094 Filed 7-31-17; 8:45 am]

BILLING CODE 4312-52-P